DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Atlantic Herring Amendment 5 Data Collection.

OMB Control Number: 0648-0674.

Form Number(s): None.

Type of Request: Regular (extension of a currently approved information collection).

Number of Respondents: 204.

Average Hours per Response: Category E permit renewal, 1 minute; At-Sea Herring Dealer Permit renewal, 5 minutes; weekly dealer reports, 15 minutes; VMS activity declarations, 5 minutes; VMS power-down exemption letter, 5 minutes; VMS pre-landing notification and gear declaration, 5 minutes; catch reports and vessel trip reports, 5 minutes; request for an observer prior to a trip, 5 minutes; cancellation of trip, 1 minute; estimate of catch/discard provision, 1 minute; documentation of slippage, 5 minutes.

Burden Hours: 1,159.

Needs and Uses: This request is for extension of a current information collection. Under the Magnuson-Stevens Fishery Conservation and Management Act, the Secretary of Commerce has the responsibility for the conservation and management of marine fishery resources. Much of this responsibility has been delegated to NOAA's National Marine Fisheries Service (NMFS). Under this stewardship role, the Secretary was given certain regulatory authorities to ensure the most beneficial uses of these resources. One of the regulatory steps taken to carry out the conservation and management objectives is to collect information from users of the resources.

Data collection for Amendment 5 to the Atlantic Herring Fishery Management Plan requires renewal of Category E permits for limited access herring permit holders. This collection also requires herring carrier vessels that sell herring (rather than deliver those fish on behalf of a dealer for purchase) to obtain or maintain an At-Sea Atlantic Herring Dealer Permit. Vessels that have both an At-Sea Atlantic Herring Dealer Permit and a Federal fishing permit are required to fulfill the reporting requirements of both permits as appropriate.

This collection has several vessel monitoring system (VMS) and vessel trip reporting (VTR) components. Category E vessels must submit daily VMS reports, weekly VTRs, and maintain a VMS unit on their vessels and declare intent to target Atlantic herring via VMS. This collection allows a vessel that opts to enroll as a herring carrier to do so via VMS rather than obtaining a letter of authorization (LOA). By declaring a herring trip via VMS, a vessel is exempt from daily VMS catch reporting, and is not bound by the 7-day enrollment period required by the herring carrier LOA. Vessels with limited access herring permits, Category E permits, and vessels declaring herring carrier trips via VMS also must give a pre-landing notification to the NMFS Office of Law Enforcement via VMS. In addition, vessels are prohibited from turning off VMS units while in port. A vessel representative must request a letter of exemption (LOE) from NMFS to turn off its VMS if that vessel will be out of the water for more than 72 hours. A vessel owner is able to sign a herring vessel out of the VMS program for a minimum of 30 days by requesting and obtaining an LOE from NMFS. A vessel is not able to leave the dock unless the VMS unit is turned back on.

This collection also requires that vessels with limited access herring permits, vessels with open access Category D permits that are fishing with midwater trawl gear in Areas 1A, 1B, and/or 3, vessels with open access category E permits, and herring carrier vessels contact NMFS at least 48 hours in advance of fishing to request an observer. Vessels currently contact NMFS via phone, and selection notices or waivers are issued by NMFS via VMS. Vessels with limited access herring permits, Category E permits, and vessels declaring herring carrier trips via VMS must notify NMFS via VMS of their intent to participate in the herring fishery prior to leaving port on each trip by entering the appropriate activity and gear codes in order to harvest, possess, or land herring on that trip.

Additionally, this collection requires vessels issued limited access permits working cooperatively in the herring fishery to provide NMFS-approved observers with the estimated weight of each species brought on board or released on each tow.

Finally, this collection requires that all herring vessels (i.e. any area throughout the EEZ, any gear type) bring all catch aboard the vessel and make it available for sampling by an observer. If catch is not made available to an observer before discard, that catch is defined as slippage, and the vessel operator must complete a “Released Catch Affidavit” form within 48 hours of the end of the fishing trip which details why catch was slipped, estimates the quantity and species composition of the slipped catch, and records the time and location of the slipped catch.

Affected Public: Business or other for-profit organizations.

Frequency: Annually, daily and on occasion.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Dated: January 27, 2017.
Sarah Brabson,
NOAA PRA Clearance Officer.

[FR Doc. 2017-02131 Filed 1-31-17; 8:45 am]

BILLING CODE 3510-22-P